DEPARTMENT OF HEALTH AND HUMAN SERVICES

Centers for Medicare and Medicaid Services

[Document Identifier: CMS-10356]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. In accordance with 5 CFR 1320.13, we are requesting an emergency review to ensure compliance with an initiative of the Administration.

1. Type of Information Collection Request: New collection; Title of Information Collection: Evaluation of Practice Models for Dual Eligibles and Medicare Beneficiaries with Serious Chronic Conditions Use: The Affordable Care Act (ACA) established the Federal Coordinated Health Care Office (FCHCO) to more effectively integrate benefits under Medicare and Medicaid and improve Federal and State coordination for dual-eligible beneficiaries (duals). Duals are among the most vulnerable beneficiaries—most face multiple and severe chronic conditions that require complex and intense care—and because they receive both Medicare and Medicaid coverage, they must navigate two separate health care programs, often leading to fragmented, inefficient, and costly care. The Centers for Medicare & Medicaid Services (CMS) Office of Policy (OP) has contracted L&M Policy Research and its partner Thomson Reuters to explore variations in patterns of care and best practices for duals and other Medicare beneficiaries with complex health needs.

This project comprises qualitative information-gathering through open-ended, in-person discussions with providers, local health care and community leaders, patient advocates, and professionals involved in implementing care coordination initiatives. To determine factors associated with high quality and cost effective care as well as better understand the barriers to delivering it, the research team will hold in-person discussions during visits to 16 hospital referral regions (HRRs). In two of these HRRs, there will be a particular focus on the role of the Program for All-Inclusive Care for the Elderly (PACE). Many different organizations and types of programs will be explored during this field work, varying in their approach to health care delivery and the extent to which they are directly involved in the coordination of care for vulnerable populations. Lessons learned, to include critical challenges and success factors, will be used to inform the pressing work of the FCHCO to support initiatives and policies that improve care coordination for duals, as well as other priorities outlined in the ACA. Form Number: CMS-10356 (OMB#: 0938-New); Frequency: Once; Affected Public: Individuals or Households; Number of Respondents: 368; Total Annual Responses: 368; Total Annual Hours: 494. (For policy questions regarding this collection contact John Oswald at 202-260-0835. For all other issues call 410-786-1326.)

CMS is requesting OMB review and approval of this collection by December 29, 2010, with a 180-day approval period. Written comments and recommendations will be considered from the public if received by the individuals designated below by December 20, 2010.

To obtain copies of the supporting statement and any related forms for the proposed paperwork collections referenced above, access CMS' Web Site address at http://www.cms.hhs.gov/regulations/pra or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by December 20, 2010.

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

3. By Facsimile or E-mail to OMB. OMB, Office of Information and Regulatory Affairs, Attention: CMS Desk Officer, Fax Number: (202) 395-6974, E-mail: OIRA_submission@omb.eop.gov.

Dated: November 16, 2010.
Martique Jones,
Director, Regulations Development Group—Division B, Office of Strategic Operations and Regulatory Affairs.

[FR Doc. 2010-29252 Filed 11-18-10; 8:45 am]

BILLING CODE 4120-01-P